DEPARTMENT OF HEALTH AND HUMAN SERVICES

Centers for Disease Control and Prevention

[60Day-22-1295; Docket No. CDC-2022-0105]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Public Health Accreditation Board (PHAB): Assessment of Processes and Outcomes. The purpose of this Extension is to collect information from health departments throughout the initial accreditation and reaccreditation process to learn about program processes and the accreditation/reaccreditation standards, to improve the program's quality, and to document program outcomes and inform decision making about future program direction.

DATES: CDC must receive written comments on or before November 14, 2022.

ADDRESSES: You may submit comments, identified by Docket No. CDC-2022-0105 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Public Health Accreditation Board (PHAB): Assessment of Processes and Outcomes (OMB Control No. 0920-1295, Exp. 4/30/2023)—Extension—Center for State, Tribal, Local and Territorial Support (CSTLTS), Centers for Disease Control and Prevention (CDC)

Background and Brief Description

The Centers for Disease Control and Prevention (CDC) works to protect America from health, safety, and security threats, both foreign and domestic. CDC strives to fulfill this mission, in part, by supporting state, tribal, local, and territorial (STLT) health departments. One mechanism for supporting STLT health departments is through CDC's support of a national, voluntary accreditation program.

CDC supports the Public Health Accreditation Board (PHAB), a non-profit organization that serves as the independent accrediting body. PHAB, with considerable input from national, state, tribal, and local public health professionals, developed a consensus set of standards to assess the capacity of STLT health departments. Between February 2013 (when the first health department was accredited) and August 2022, 40 state health departments, 305 local health departments, five Tribal health departments, and one integrated system (comprised of 67 local health departments in one centralized state) have been accredited. Accreditation is granted for a five-year period and 68 health departments have successfully completed the reaccreditation process. Formal efforts to assess the outcomes of the accreditation program began in late 2012 and continue to date. Priorities focus on gathering feedback for program improvement and documenting program outcomes to demonstrate impact and inform decision making about future program direction. From 2012-2019, the Robert Wood Johnson Foundation (RWJF) and the social science organization NORC at the University of Chicago, led evaluation efforts. CDC assumed support of the evaluation beginning in 2020 and is seeking OMB approval to continue data collection.

The purpose of this Information Collection Request (ICR) is to support the collection of information from participating health departments through a series of five surveys. The surveys seek to collect longitudinal data on each health department throughout their accreditation process. Data collected through this ICR provides documentation about the evidence and value of health department accreditation.

Respondents will include STLT health department directors or designees, one respondent per each health department. All surveys will be administered electronically; a link to the survey website will be provided in an email invitation. The surveys will be administered on a quarterly basis and sent to all health departments that reach any of five milestones in the accreditation process (application, recently accredited, accredited for one year, approaching reaccreditation, and reaccreditation). Each health department will be invited to participate in each survey once (for a total of five surveys max per health department). The total annualized estimated burden is 100 hours. There are no costs to respondents other than their time to participate.

Estimated Annualized Burden Hours
Type of respondents | Form name | Number of respondents | Number of responses per respondent | Average burden per response (in hours) | Total burden (in hours)
STLT HD Directors or Designee | Survey 1: Applicant HDs | 60 | 1 | 20/60 | 20
STLT HD Directors or Designee | Survey 2: Recently Accredited HDs | 60 | 1 | 20/60 | 20
STLT HD Directors or Designee | Survey 3: HDs Accredited One Year | 60 | 1 | 20/60 | 20
STLT HD Directors or Designee | Survey 4: HDs Approaching Reaccreditation | 60 | 1 | 20/60 | 20
STLT HD Directors or Designee | Survey 5: Reaccredited HDs | 60 | 1 | 20/60 | 20
Total |  |  |  |  | 100

Jeffrey M. Zirger,
Lead, Information Collection Review Office, Office of Scientific Integrity, Office of Science, Centers for Disease Control and Prevention.

[FR Doc. 2022-19565 Filed 9-9-22; 8:45 am]

BILLING CODE 4163-18-P